DEPARTMENT OF COMMERCE

Foreign-Trade Zones Board

[Order No. 1998]

Reorganization of Foreign-Trade Zone 191 Under Alternative Site Framework; Palmdale, California

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the City of Palmdale, California, grantee of Foreign-Trade Zone 191, submitted an application to the Board (FTZ Docket B-74-2015, docketed November 5, 2015) for authority to reorganize under the ASF with a service area of a portion of Los Angeles County, California, as described in the application, adjacent to the Los Angeles/Long Beach U.S. Customs and Border Protection port of entry, FTZ 191's existing Sites 1 and 5 would be categorized as magnet sites, existing Site 12 would be categorized as a usage-driven site, acreage would be reduced at Site 1, and Sites 2 through 4 and 6 through 11 would be removed from the zone;

Whereas, notice inviting public comment was given in the Federal Register (80 FR 69937-69938, November 12, 2015) and the application has been processed pursuant to the FTZ Act and the Board's regulations; and,

Whereas, the Board adopts the findings and recommendation of the examiner's report, and finds that the requirements of the FTZ Act and the Board's regulations are satisfied;

Now, therefore, the Board hereby orders:

The application to reorganize FTZ 191 under the ASF is approved, subject to the FTZ Act and the Board's regulations, including Section 400.13, to the Board's standard 2,000-acre activation limit for the zone, to an ASF sunset provision for magnet sites that would terminate authority for Site 5 if not activated within five years from the month of approval, and to an ASF sunset provision for usage-driven sites that would terminate authority for Site 12 if no foreign-status merchandise is admitted for a bona fide customs purpose within three years from the month of approval.

Signed at Washington, DC, this 13th day of May 2016.
Paul Piquado,
Assistant Secretary of Commerce for Enforcement and Compliance, Alternate Chairman, Foreign-Trade Zones Board.
Attest:
Andrew McGilvray,
Executive Secretary.

[FR Doc. 2016-12534 Filed 5-25-16; 8:45 am]

BILLING CODE 3510-DS-P